DEPARTMENT OF HEALTH AND HUMAN SERVICES

Office of the Secretary

45 CFR Part 92

[HHS-OCR-2015-0006]

RIN 0945-AA02

Nondiscrimination in Health Programs and Activities; Correction

AGENCY: Office of the Secretary (OS), HHS.

ACTION: Final rule; correction.

SUMMARY: This document corrects a typographical error that appeared in the final rule published in the Federal Register on May 18, 2016, entitled “Nondiscrimination in Health Programs and Activities.”

DATES: This correction is effective on July 18, 2016.

FOR FURTHER INFORMATION CONTACT: Section 1557 mailbox at 1557@hhs.gov. Eileen Hanrahan, (800) 368-1019 or (800) 537-7697 (TDD).

SUPPLEMENTARY INFORMATION:

I. Background

In FR Doc. 2016-11458 of May 18, 2016 (81 FR 31375) (hereinafter referred to as the Section 1557 final rule) there is a typographical error that is discussed in the “Summary of Error,” and further identified and corrected in the “Correction of Error” section below. The provision in this correction document is effective as if it had been included in the Section 1557 final rule published in the Federal Register on May 18, 2016.

II. Summary of Error

On page 31473, in Appendix A to Part 92—Sample Notice Informing Individuals About Nondiscrimination and Accessibility Requirements and Sample Nondiscrimination Statement: Discrimination is Against the Law, the telephone number provided for assistance with filing a civil rights complaint with the U.S. Department of Health and Human Services, Office for Civil Rights was incorrect. The correct telephone number is 800-368-1019.

III. Correction of Error

In FR Doc. 2016-11458 of May 18, 2016 (81 FR 31375), make the following correction:

1. On page 31473, first column, first full paragraph, line 22, “1-800-868-1019” is corrected to read “1-800-368-1019”.

Dated: July 8, 2016.
Madhura C. Valverde,
Executive Secretary to the Department, Department of Health and Human Services.

[FR Doc. 2016-16680 Filed 7-15-16; 8:45 am]

BILLING CODE 4153-01-P